UNITED STATES SENTENCING COMMISSION

Request for Applications; Victims Advisory Group

AGENCY: United States Sentencing Commission.

ACTION: Notice.

SUMMARY: In view of five upcoming vacancies in the membership of the Victims Advisory Group, the United States Sentencing Commission hereby invites any individual who has knowledge, expertise, or experience in federal crime victimization to apply to be appointed to the advisory group. An applicant for membership in the Victims Advisory Group should apply by sending a letter of interest and resume to the Commission as indicated in the ADDRESSES section below.

DATES: Application materials for membership in the Victims Advisory Group should be received not later than October 14, 2024.

ADDRESSES: An applicant for membership in the Victims Advisory Group should apply by sending a letter of interest and resume to the Commission by electronic mail or regular mail. The email address is pubaffairs@ussc.gov. The regular mail address is United States Sentencing Commission, One Columbus Circle, NE, Suite 2-500, South Lobby, Washington, DC 20002-8002, Attention: Public Affairs—VAG Membership.

FOR FURTHER INFORMATION CONTACT: Jennifer Dukes, Senior Public Affairs Specialist, (202) 502-4597. More information about the Victims Advisory Group is available on the Commission's website at www.ussc.gov/advisory-groups.

SUPPLEMENTARY INFORMATION: The United States Sentencing Commission is an independent agency in the judicial branch of the United States Government. The Commission promulgates sentencing guidelines and policy statements for federal courts pursuant to 28 U.S.C. 994(a). The Commission also periodically reviews and revises previously promulgated guidelines pursuant to 28 U.S.C. 994(o) and submits guideline amendments to the Congress not later than the first day of May each year pursuant to 28 U.S.C. 994(p).

The Victims Advisory Group is a standing advisory group of the United States Sentencing Commission established pursuant to 28 U.S.C. 995 and Rule 5.4 of the Commission's Rules of Practice and Procedure. Under the charter for the advisory group, the purpose of the advisory group is (1) to assist the Commission in carrying out its statutory responsibilities under 28 U.S.C. 994(o); (2) to provide to the Commission its views on the Commission's activities and work, including proposed priorities and amendments, as they relate to victims of crime; (3) to disseminate information regarding sentencing issues to organizations represented by the Victims Advisory Group and to other victims of crime and victims advocacy groups, as appropriate; and (4) to perform any other functions related to victims of crime as the Commission requests. The advisory group consists of not more than nine members, each of whom may serve not more than two consecutive three-year terms. Each member is appointed by the Commission.

In view of five upcoming vacancies in the membership of the Victims Advisory Group, the Commission invites any individual who has knowledge, expertise, or experience in federal crime victimization to apply to be appointed to the Victims Advisory Group by sending a letter of interest and a resume to the Commission as indicated in the ADDRESSES section above.

Authority: 28 U.S.C. 994(a), (o), (p), 995; USSC Rules of Practice and Procedure 2.2(c), 5.4.

Carlton W. Reeves,
Chair.

[FR Doc. 2024-18092 Filed 8-13-24; 8:45 am]

BILLING CODE 2210-40-P